ENVIRONMENTAL PROTECTION AGENCY

[FRL-7483-2]

Compliance Assistance Centers; Request for Suggestions on Candidates for Compliance Assistance Center Development in FY 2004

AGENCY: Environmental Protection Agency.

ACTION: Solicitation for suggestions.

SUMMARY: In partnership with industry, academic institutions, environmental groups, and other agencies, the Environmental Protection Agency (EPA) supports thirteen Compliance Assistance Centers (Centers) to help small- and medium-size businesses and local governments better understand and comply with environmental regulations. These Centers provide easy to understand compliance information targeted to specific sectors, geographic and environmental topics: agriculture; automotive service and repair; automotive recycling, chemical manufacturers; construction; federal facilities; local governments, metal finishing; paints and coatings; printed wiring board manufacturers; printers; transportation; and the U.S. / Mexican border environmental issues. All Centers can be accessed at http://www.assistancecneters.net.

EPA would like to expand the Center program to support other sectors, geographical areas or topical issues.

To support new Center development, EPA has funded the National Center for Manufacturing Sciences (NCMS) to develop, operate and maintain the Compliance Assistance Center Platform (Platform) from which new Centers can be “launched.” The Platform includes a suite of comprehensive web-based tools necessary to create a full-featured Center. States, industry, and compliance assistance providers can work with NCMS to establish Centers that will help the regulated community better understand and more efficiently comply with environmental requirements. The Centers for the construction sector, automotive recycling sector and U.S. / Mexican border environmental issues have been developed in partnership with NCMS and the Platform. Visit http://www.envcap.org to access Platform resources.

EPA is exploring new sector, geographical, or topical candidates for Center development in FY 2004. Center candidates will be evaluated initially against the following criteria: impact on health and the environment; patterns of noncompliance; assessment that compliance assistance is an appropriate “tool” to use; predominately involves or affects small businesses; the problem or issue is prevalent nationally; impact of new environmental regulations; subject to multiple environmental statutes/regulations; and not currently supported by an existing compliance assistance program. Once these threshold criteria have been met, an additional criteria will be applied: willingness of a sector or third-party organization to partner with EPA.

EPA invites feedback from interested parties on candidates for Center development. The above criteria should be considered in your evaluation of sector, geographic, or topical candidates. EPA anticipates selecting the sectors, topics or geographic areas for which new Centers will be developed in July, 2003. Pursuant to EPA's Grants Competition Policy that went into effect October 1, 2002, EPA will compete any assistance agreement that will be provided to support new Center development in FY 2004.

Interested parties should communicate their suggestions regarding new sectors, geographical areas or topical issues for Center development to EPA by letter or e-mail to the contact listed below.

DATES: Contact by May 9, 2003.

FOR FURTHER INFORMATION CONTACT: Tracy Back, Team Leader, Compliance Assistance Centers, US, EPA (mail code 2224A), 1200 Pennsylvania Ave., NW., Washington, DC 20460, E-mail: back.tracy@epa.gov. Telephone: 202-564-7076, Fax: 202-564-0009.

Dated: April 3, 2003.
Lisa C. Lund,
Acting Director, Office of Compliance.

[FR Doc. 03-9209 Filed 4-14-03; 8:45 am]

BILLING CODE 6560-50-P